DEPARTMENT OF AGRICULTURE

Cooperative State Research, Education, and Extension Service Guidelines for State Plans of Work for the Agricultural Research and Extension Formula Funds

AGENCY: Cooperative State Research, Education, and Extension Service.

ACTION: Final notice.

SUMMARY: The Cooperative State Research, Education, and Extension Service (CSREES) published Guidelines for the State Plans of Work for Agricultural Research and Extension Formula Funds on July 1, 1999 [64 FR 35910-35919]. The guidelines prescribe the procedures to be followed by the eligible institutions receiving Federal agricultural research and extension formula funds under the Hatch Act of 1887, as amended (7 U.S.C. 361a et seq.); sections 3(b)(1) and (c) of the Smith-Lever Act of 1914, as amended (7 U.S.C. 343(b)(1) and (c)); and sections 1444 and 1445 of the National Agricultural Research, Extension, and Teaching Policy Act of 1977, as amended (7 U.S.C. 3221 and 3222). The recipients of these funds are commonly referred to as the 1862 land-grant institutions and the 1890 land-grant institutions, including Tuskegee University. CSREES is publishing this notice to inform these institutions that the due date for the Annual Report of Accomplishments and Results is changed from December 31 to March 1.

FOR FURTHER INFORMATION CONTACT: Dr. George Cooper; Deputy Administrator, Partnerships; Cooperative State Research, Education, and Extension Service; U.S. Department of Agriculture; Washington, DC 20250; at 202-720-5285 or 202-720-5369, 202-720-4924 (fax); or via electronic mail at bhewitt@reeusda.gov.

SUPPLEMENTARY INFORMATION: The Guidelines for State Plans of Work provide guidance for the submission of a 5-Year Plan of Work for the use of the agricultural research and extension formula funds described above. The first 5-Year Plan of Work was due July 15, 1999, for the period covering October 1, 1999, through September 30, 2004. In addition, the Guidelines prescribe procedures for updating the 5-Year Plan of Work, if necessary, and for reporting annually on the accomplishments and results of the plan. The latter report is referred to as the Annual Report of Accomplishments and Results. CSREES has decided, in consultation with the land-grant institutions, to change the due date for the Annual Report of Accomplishments and Results from December 31 to March 1. Therefore, the first report will be due March 1, 2001, and not December 31, 2000. It is anticipated that the additional two months will provide the institutions more time each year to report on their accomplishments and results for the fiscal year ending September 30.

Done at Washington, DC, this 21st day of December 2000.
Colien Hefferan,
Administrator, Cooperative State Research, Education, and Extension Service.

[FR Doc. 00-33208 Filed 12-27-00; 8:45 am]

BILLING CODE 3410-22-P